POSTAL SERVICE

Product Change—Priority Mail Express, Priority Mail, and USPS Ground Advantage Negotiated Service Agreements; Priority Mail and USPS Ground Advantage Negotiated Service Agreements; Priority Mail Negotiated Service Agreements

AGENCY: Postal Service.

ACTION: Notice.

SUMMARY: The Postal Service gives notice of filing a request with the Postal Regulatory Commission to add a domestic shipping services contract to the list of Negotiated Service Agreements in the Mail Classification Schedule's Competitive Products List.

DATES: Date of required notice: December 9, 2025.

FOR FURTHER INFORMATION CONTACT: Sean C. Robinson, 202-268-8405.

SUPPLEMENTARY INFORMATION: The United States Postal Service hereby gives notice that, pursuant to 39 U.S.C. 3642 and 3632(b)(3), it filed with the Postal Regulatory Commission the following requests:

Date filed with postal regulatory commission | Negotiated service agreement product category and No. | MC Docket No. | K Docket No.
11/24/25 | PM-GA 931 | MC2026-117 | K2026-117.
11/24/25 | PM-GA 932 | MC2026-118 | K2026-118.
11/26/25 | PME-PM-GA 1461 | MC2026-119 | K2026-119.
11/26/25 | PME-PM-GA 1462 | MC2026-120 | K2026-120.
11/26/25 | PM-GA 933 | MC2026-121 | K2026-121.
12/01/25 | PM 949 | MC2026-122 | K2026-122.
12/01/25 | PM 950 | MC2026-123 | K2026-123.
12/01/25 | PM-GA 934 | MC2026-124 | K2026-124.
12/01/25 | PM-GA 935 | MC2026-125 | K2026-125.
12/02/25 | PM-GA 936 | MC2026-126 | K2026-126.
12/02/25 | PM-GA 937 | MC2026-127 | K2026-127.
12/03/25 | PM-GA 938 | MC2026-128 | K2026-128.
12/03/25 | PME-PM-GA 1463 | MC2026-129 | K2026-129.
12/05/25 | PME-PM-GA 1464 | MC2026-130 | K2026-130.

Documents are available at www.prc.gov.

Sean C. Robinson,
Attorney, Corporate and Postal Business Law.

[FR Doc. 2025-22360 Filed 12-8-25; 8:45 am]

BILLING CODE 7710-12-P